DEPARTMENT OF DEFENSE

Office of the Secretary

[Transmittal No. 23-05]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 23-05 and Policy Justification.

Dated: August 23, 2024.
Aaron T. Siegel,
Alternate OSD Federal Register Liaison Officer, Department of Defense.

BILLING CODE 6001-FR-P

BILLING CODE 6001-FR-C

Transmittal No. 23-05

Notice of Proposed Issuance of Letter of Offer Pursuant to Section 36(b)(1) of the Arms Export Control Act, as amended

(i) Prospective Purchaser: Government of Kuwait

(ii) Total Estimated Value:

Major Defense Equipment * | $ 0 million
Other | $250 million
Total | $250 million

Funding Source: National Funds

(iii) Description and Quantity or Quantities of Articles or Services under Consideration for Purchase: The Government of Kuwait has requested to buy planning, integration, implementation, and maintenance of a Medical Information System for their Kuwait Military Medical Command (KMMC) that consists of:

MDE:

None

Non-MDE:

Health Information Systems (HIS) Information Technology (IT) hardware and software, IT infrastructure, implementation of life-cycle management practices, training, maintenance, support and warranty services, along with U.S. Government and contractor engineering, technical and logistics support services; and other related elements of logistical and program support.

(iv) Military Department: Army (KU-B-UXY).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: February 14, 2023.

* As defined in Section 47(6) of the Arms Export Control Act.

Policy Justification

Kuwait—Medical Information System for Kuwait Military Medical Command (KMMC)

The Government of Kuwait has requested to buy planning, integration, implementation, and maintenance of a Medical Information System for its KMMC that consists of: Health Information Systems Information Technology (IT) hardware and software, IT infrastructure, implementation of life-cycle management practices, training, maintenance, support and warranty services, along with U.S. Government and contractor engineering, technical and logistics support services; and other related elements of logistical and program support. The estimated total cost is $250 million.

This proposed sale will support the foreign policy and national security objectives of the United States by helping to improve the infrastructure of a Major Non-NATO ally that has been and continues to be an important force for political stability and economic progress in the Middle East.

This proposed sale will improve Kuwait's capability to provide greater health security for its KMMC infrastructure. Kuwait will use the enhanced capability to strengthen its medical services management. Kuwait will have no difficulty absorbing this infrastructure, support, and associated services into its armed forces.

The proposed sale of this equipment and support will not alter the basic military balance in the region.

The principal contractor will be the Cerner Corporation, Kansas City, Missouri. There are no known offset agreements proposed in connection with this potential sale.

Implementation of this proposed sale will require the assignment of as many as fifteen (15) additional U.S. Government or U.S. contractor representatives to Kuwait for a duration of up to seven (7) years to provide systems planning, implementation, management, and oversight.

There will be no adverse impact on U.S. defense readiness as a result of this proposed sale.

[FR Doc. 2024-19351 Filed 8-27-24; 8:45 am]

BILLING CODE 6001-FR-P